COMMODITY FUTURES TRADING COMMISSION

Agricultural Advisory Committee Meeting

AGENCY: Commodity Futures Trading Commission.

ACTION: Notice of Meeting.

SUMMARY: The Commodity Futures Trading Commission's (CFTC) Agricultural Advisory Committee (AAC) is providing notice that it will hold a public meeting on Thursday, July 25, 2013, from 9:00 a.m. to 2:30 p.m., at the CFTC's Washington, DC, headquarters. The AAC will discuss issues related to customer protection and the Dodd-Frank Wall Street Reform and Consumer Protection Act. The meeting is open to the public with seating on a first-come, first-served basis. Members of the public who wish to listen to the meeting by telephone may do so by calling a domestic toll-free or international toll or toll-free number. The domestic toll-free number, which is listed in this Notice, will connect to a live, listen-only audio feed. The international toll and toll-free numbers will be posted on the CFTC Web site in advance of the meeting. Call-in participants should be prepared to provide their first name, last name, and affiliation. Persons requiring special accommodations to attend the meeting because of a disability should notify the contact person below. The public is invited to submit written statements to the AAC. The meeting will be recorded and later posted on the CFTC Web site, www.cftc.gov.

DATES: The meeting will be held on Thursday, July 25, from 9 a.m. to 2:30 p.m. Members of the public who wish to submit written statements in connection with the meeting should submit them by July 18, 2013.

ADDRESSES: The meeting will take place in the first floor Conference Center at the Commission's headquarters, Three Lafayette Centre, 1155 21st Street NW., Washington, DC 20581. Written statements should be submitted to: Agricultural Advisory Committee, c/o Christa Lachenmayr, Commodity Futures Trading Commission, Three Lafayette Centre, 1155 21st Street NW., Washington, DC 20581. Statements may also be submitted by electronic mail to: clachenmayr@cftc.gov. Any statements submitted in connection with the committee meeting may be made available to the public, including publication on the CFTC Web site, www.cftc.gov.

FOR FURTHER INFORMATION CONTACT: Nicole McNair; Commodity Futures Trading Commission, Three Lafayette Centre, 1155 21st Street NW., Washington, DC 20581; (202) 418-5070.

SUPPLEMENTARY INFORMATION: After the meeting, a transcript of the meeting will be published on the CFTC Web site, www.cftc.gov. The telephone call-in information for the live, listen-only audio feed of the meeting is as follows:

Domestic Toll-Free: 1-866-844-9416.

Call Leader Name: Mr. Michael Jones.

International Toll and Toll-Free: The international toll and toll-free numbers will be posted on the CFTC Web site, www.cftc.gov, on the page for this meeting, under Related Links.

Pass Code/Pin Code: CFTC

Authority: 5 U.S.C. Appendix 2 § 10(a)(2).

Dated: July 5, 2013.
Melissa D. Jurgens,
Secretary of the Commission.

[FR Doc. 2013-16545 Filed 7-9-13; 8:45 am]

BILLING CODE 6351-01-P